DEPARTMENT OF TRANSPORTATION

Federal Aviation Administration

Notice of Intent to Rule on Request to Release Airport Property at the Dubois Regional Airport, Reynoldsville, Pennsylvania

AGENCY: Federal Aviation Administration (FAA), DOT.

ACTION: Notice of request to release airport property.

SUMMARY: The FAA proposes to rule and invite public comment on the release of land at the Dubois Regional Airport, Reynoldsville, Pennsylvania under the provisions of Section 47125(a) of Title 49 United States Code (U.S.C.).

DATES: Comments must be received on or before September 8, 2010.

ADDRESSES: Comments on this application may be mailed or delivered to the following address:

Robert W. Shaffer, Manager, Dubois Regional Airport, 377 Aviation Way, Reynoldsville, PA 15851.

and at the FAA Harrisburg Airports District Office:

Lori K. Pagnanelli, Manager, Harrisburg Airports District Office, 3905 Hartzdale Dr., Suite 508, Camp Hill, PA 17011.

FOR FURTHER INFORMATION CONTACT: Lori Ledebohm, Community Planner, Harrisburg Airports District Office location listed above.

The request to release property may be reviewed in person at this same location.

SUPPLEMENTARY INFORMATION: The FAA invites public comment on the request to release property at the Dubois Regional Airport under the provisions of Section 47125(a) of Title 49 U.S.C. On July 30, 2010, the FAA determined that the request to release property at the Dubois Regional Airport submitted by the Clearfield-Jefferson Counties Regional Airport Authority (Authority) met the procedural requirements.

The following is a brief overview of the request:

The Authority requests the release of real property totaling 0.22 acre, of non-aeronautical airport property to Joseph and Rosemary Barber. Also, Joseph and Rosemary Barber desire to transfer real property totaling 0.02 acre to the Authority. The land was originally purchased with Federal funds in 1958, C.A.A Project 9-36-037-5801. The purpose for the change is to transfer land that was airport property but was used as Right-Of-Way (ROW) for State Route (SR) 830. SR 830 was relocated and one half of the ROW width was turned back to the Authority and the other half was turned back to Joseph and Rosemary Barber. The ROW continues to be needed by Joseph and Rosemary Barber to access SR 830 from their property. Therefore, the Authority desires to convey their half of the former ROW to Joseph and Rosemary Barber. Additionally, Joseph and Rosemary Barber wish to convey the small portion of land they obtained when SR 830 was relocated, back to the Authority. The property is located on the north-west side of the airport and is bordered by the former airport access road and the Barber property. The subject land does not serve an aeronautical purpose and is not needed for airport development, as shown on the Airport Layout Plan. Any proceeds from the sale of property are to be used for the capital development of the airport.

Any person may inspect the request by appointment at the FAA office address listed above. Interested persons are invited to comment on the proposed release from obligations. All comments will be considered by the FAA to the extent practicable.

Issued in Camp Hill, Pennsylvania, on August 2, 2010.
Lori K. Pagnanelli,
Manager, Harrisburg Airports District Office.

[FR Doc. 2010-19535 Filed 8-6-10; 8:45 am]

BILLING CODE 4910-13-P